NATIONAL SCIENCE FOUNDATION

Special Emphasis Panel in Chemical and Transport Systems; Notice of Meeting

In accordance with the Federal Advisory Committee Act (Pub. L. 92-463, as amended), the National Science Foundation announces the following meeting:

Name: Special Emphasis Panel in Chemical and Transport Systems (1190).

Date/Time: May 17, 2001; 8:30 a.m. to 5:00 p.m.

Place: National Science Foundation, 4201 Wilson Blvd., Room 530, Arlington, VA.

Type of Meeting: Closed.

Contact Person: Dr. Chuan F. Chen, Program Director, Division of Chemical & Transport Systems, Room 525, National Science Foundation, 4201 Wilson Blvd. Arlington, VA 22230. (703) 292-8371.

Purpose of Meeting: To provide advice and recommendations concerning proposals submitted to NSF for financial support.

Agenda: To review and evaluate nominations for the FY 2001 Major Research Instrumentation (MRI) Panel of proposals as part of the selection process for awards.

Reason for Closing: The proposals being reviewed include information of a proprietary or confidential nature, including technical information; financial data, such as salaries and personal information concerning individuals associated with the proposals. These matters are exempt under 5 U.S.C. 552b(c) (4) and (6) of the Government in the Sunshine Act.

Dated: April 24, 2001.
Susanne Bolton,
Committee Management Officer.

[FR Doc. 01-10557 Filed 4-26-01; 8:45 am]

BILLING CODE 7555-01-M